DEPARTMENT OF COMMERCE

Foreign-Trade Zones Board

[B-84-2015]

Foreign-Trade Zone 78—Nashville, Tennessee; Application for Expansion of Subzone 78A, Nissan North America, Inc., Smyrna, Tennessee

An application has been submitted to the Foreign-Trade Zones (FTZ) Board by the Metropolitan Government of Nashville and Davidson County, grantee of FTZ 78, requesting to expand Subzone 78A—Site 1 at the facility of Nissan North America, Inc., located in Smyrna, Tennessee. The application was submitted pursuant to the provisions of the Foreign-Trade Zones Act, as amended (19 U.S.C. 81a-81u), and the regulations of the FTZ Board (15 CFR part 400). It was formally docketed on December 23, 2015.

Subzone 78A was approved on April 2, 1982 (Board Order 190, 47 FR 16191, April 15, 1982) and expanded on March 18, 1993 (Board Order 632, 58 FR 18850, March 30, 1993). The subzone currently consists of two sites: Site 1 (1,004 acres) located at 983 Nissan Drive, Smyrna; and, Site 2 (958 acres) located at 520 Nissan Powertrain Drive, Decherd. (An application is currently pending with the FTZ Board to expand Site 1 of the subzone to include 22 additional acres adjacent to the site (B-77-2015)).

The applicant is requesting authority to further expand Site 1 of the subzone to include 77.03 additional acres adjacent to the present site. No authorization for additional production activity has been requested at this time.

In accordance with the FTZ Board's regulations, Kathleen Boyce of the FTZ Staff is designated examiner to review the application and make recommendations to the Executive Secretary.

Public comment is invited from interested parties. Submissions shall be addressed to the FTZ Board's Executive Secretary at the address below. The closing period for their receipt is February 16, 2016. Rebuttal comments in response to material submitted during the foregoing period may be submitted during the subsequent 15-day period to February 29, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Kathleen Boyce at Kathleen.Boyce@trade.gov or (202) 482-1346.

Dated: December 23, 2015.
Andrew McGilvray,
Executive Secretary.

[FR Doc. 2015-32780 Filed 12-31-15; 8:45 am]

BILLING CODE 3510-DS-P